DEPARTMENT OF TRANSPORTATION

Federal Aviation Administration

14 CFR Part 39

[Docket No. FAA-2006-24958; Directorate Identifier 2006-NM-075-AD]

RIN 2120-AA64

Airworthiness Directives; Airbus Model A300 Airplanes, Equipped With General Electric CF6-50 Series Engines

AGENCY: Federal Aviation Administration (FAA), Department of Transportation (DOT).

ACTION: Notice of proposed rulemaking (NPRM).

SUMMARY: The FAA proposes to adopt a new airworthiness directive (AD) for certain Airbus Model A300 airplanes. This proposed AD would require modifying the airplane and the engine/nacelle to install a third line of defense against inadvertent deployment of the thrust reverser in flight. This proposed AD would also require two other actions that must be accomplished before or concurrently with the modification: installing a structural change in the fan cowl to avoid interference; and installing a dedicated, shielded electrical circuit. This proposed AD results from a report that the manufacturer has developed a third line of defense against the inadvertent deployment of the thrust reverser of A300 airplanes that are equipped with General Electric CF6-50 series engines (in accordance with FAA guidelines). We are proposing this AD to prevent inadvertent deployment of the thrust reverser in flight, which could result in reduced controllability of the airplane.

DATES: We must receive comments on this proposed AD by July 10, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

• Contact: Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98055-4056; telephone (425) 227-1622; fax (425) 227-1149.

SUPPLEMENTARY INFORMATION:

Comments Invited

We invite you to submit any relevant written data, views, or arguments regarding this proposed AD. Send your comments to an address listed in the ADDRESSES section. Include the docket number “FAA-2006-24958; Directorate Identifier 2006-NM-075-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A300 airplanes. The DGAC advises that the manufacturer has developed an improved design of the thrust reverser of A300 airplanes that are equipped with General Electric CF6-50 engines. The improved design acts as a third line of defense against inadvertent deployment of the thrust reverser in flight. The DGAC states that this new design conforms to the requirements of Appendix C, “Thrust Reverser System Safety Analysis,” of the FAA document titled “Criteria for Assessing Transport Turbojet Fleet Thrust Reverser Safety,” dated June 1, 1994. Airbus has reassessed the safety of the thrust reverser system on all of its wide-body airplanes based on Appendix C of this document. The FAA document is based upon the premise that no failure of thrust reverser components anticipated to occur in service should prevent continued safe flight and landing of an airplane. Appendix C states that the thrust reverser system is acceptable if catastrophic deployment is shown to be extremely improbable. Inadvertent deployment of the thrust reverser in flight, if not corrected, could result in reduced controllability of the airplane.

Relevant Service Information

Airbus has issued Service Bulletin A300-78-0022, dated September 27, 2005. The service bulletin describes procedures for modifying the airplane and the engine/nacelle to install a third line of defense against inadvertent deployment of the thrust reverser in flight. On the airplane, the modification includes retrofitting the circuit breaker monitoring wiring, activating the electrical circuit, and testing the complete system. On the engine/nacelle, the modification includes retrofitting the electrical harness routing from each lock to the pylon interfaces, installing support brackets for the electrical harness on each side of the engine pylon, installing new pneumatic tubing in the engine/pylon area and on the thrust reverser, and installing a dual switcher valve on the right-hand thrust reverser half.

Airbus Service Bulletin A300-78-0022 also specifies prior or concurrent accomplishment of the following service bulletins:

Prior/Concurrent Service Bulletins
Airbus service bulletin | Action
A300-54-0098, dated September 27, 2005 | Install a structural change in the fan cowl to avoid interference between the third line of defense hardware installed on the thrust reverser and the fan cowl.
A300-78-0021, dated September 27, 2005 | Install a dedicated, shielded electrical circuit, segregated from the current thrust reverser control system.

Accomplishing the actions specified in the service information is intended to adequately address the unsafe condition. The DGAC mandated the service information and issued French airworthiness directive F-2005-206, dated December 21, 2005, to ensure the continued airworthiness of these airplanes in France.

FAA's Determination and Requirements of the Proposed AD

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously.

Costs of Compliance

This proposed AD would affect about 30 airplanes of U.S. registry. The following table provides the estimated costs for U.S. operators to comply with this proposed AD. The average labor rate is $80 per work hour.

Estimated Costs
Action | Work hours | Parts | Cost per airplane | Fleet cost
Install third line of defense | 6 | $440 | $920 | $27,600
Install structural change in the fan cowl (prior/concurrent requirement) | 312 | 5,680 | 30,640 | 919,200
Install dedicated, shielded electrical circuit (prior/concurrent requirement) | 94 | 28,700 | 36,220 | 1,086,600

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-24958; Directorate Identifier 2006-NM-075-AD.

Comments Due Date

(a) The FAA must receive comments on this AD action by July 10, 2006.

Affected ADs

(b) None.

Applicability

(c) This AD applies to A300 airplanes, certificated in any category; equipped with General Electric CF6-50 series engines.

Unsafe Condition

(d) This AD results from a report that the manufacturer has developed a third line of defense against the inadvertent deployment of the thrust reverser of A300 airplanes that are equipped with General Electric CF6-50 series engines (in accordance with FAA guidelines). We are issuing this AD to prevent inadvertent deployment of the thrust reverser in flight, which could result in reduced controllability of the airplane.

Compliance

(e) You are responsible for having the actions required by this AD performed within the compliance times specified, unless the actions have already been done.

Modification

(f) Within 48 months after the effective date of this AD, modify the airplane and the engine/nacelle to install a third line of defense against inadvertent deployment of the thrust reverser in flight, in accordance with the Accomplishment Instructions of Airbus Service Bulletin A300-78-0022, dated September 27, 2005.

Prior/Concurrent Installations

(g) Prior to or concurrently with the modification in paragraph (f) of this AD, do the installations specified in Table 1 of this AD in accordance with the Accomplishment Instructions of the service bulletins listed in Table 1.

Table 1.—Prior/Concurrent Actions
Action | Airbus service bulletin
(1) Install a structural change in the fan cowl to avoid interference between the third line of defense hardware installed on the thrust reverser and the fan cowl | A300-54-0098, dated September 27, 2005.
(2) Install a dedicated, shielded electrical circuit, segregated from the current thrust reverser control system | A300-78-0021, dated September 27, 2005.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directive F-2005-206, dated December 21, 2005, also addresses the subject of this AD.

Issued in Renton, Washington, on May 30, 2006.
Jeffrey E. Duven,
Acting Manager, Transport Airplane Directorate, Aircraft Certification Service.

[FR Doc. E6-8900 Filed 6-7-06; 8:45 am]

BILLING CODE 4910-13-P